DEPARTMENT OF THE TREASURY

Bureau of Alcohol, Tobacco and Firearms

27 CFR Part 9

[Notice No. 909; Re: Notice No. 903]

RIN 1512-AA07

Extension of the Comment Period of the Proposed California Coast Viticultural Area (2000R-166P)

AGENCY: Bureau of Alcohol, Tobacco and Firearms (ATF), Department of the Treasury.

ACTION: Proposed rule; extension of comment period.

SUMMARY: This notice extends the comment period for Notice No. 903, published in the Federal Register on September 26, 2000, regarding the establishment of the California Coast viticultural area. ATF has received a request to extend the comment period in order to provide sufficient time for all interested parties to respond to the notice.

DATES: Written comments must be received by April 25, 2001.

ADDRESSES: Send written comments to: Chief, Regulations Division, Bureau of Alcohol, Tobacco and Firearms, PO Box 50221, Washington, DC 20091-0221 (Attn: Notice No. 903).

FOR FURTHER INFORMATION CONTACT: Tom Busey, Regulations Division, Bureau of Alcohol, Tobacco and Firearms, 650 Massachusetts Avenue, NW, Washington DC, 20226, (202) 927-8095.

SUPPLEMENTARY INFORMATION:

Background

On September 26, 2000, ATF published a notice of proposed rulemaking in the Federal Register soliciting comments from the public and industry. The notice proposed to establish the California Coast viticultural area. The comment period for Notice No. 903 closes on December 26, 2000.

However, ATF received two requests to extend the comment period. One request was from the Wine Institute and one request was received from the office of Dickenson, Peatman and Fogarty, representing the Napa Valley Vintners Association (NVVA). The Wine Institute believes that the current comment period is insufficient to conduct a thorough analysis and review of the complex data in order to support or deny the establishment of this viticultural area and requests an additional 120 days. The NVVA is also requesting an additional 120 days to comment, in order to study and respond to the petitioner's submission.

In consideration of the above, ATF finds that an extension of the comment period is warranted and is extending the comment period until April 25, 2001.

Disclosure

Copies of Notice 903 and written comments will be available for public inspection during normal business hours at: ATF Reference Library, Liaison and Public Information, Room 6480, 650 Massachusetts Avenue, NW, Washington, DC.

Drafting Information

The author of this document is Nancy Kern, Regulations Division, Bureau of Alcohol, Tobacco, and Firearms.

List of Subjects in 27 CFR Part 9

Administrative practices and procedures, Consumer protection, Viticultural areas, and Wine.

Authority and Issuance: This notice extending the comment period for the California Coast viticultural area is issued under the authority of 27 U.S.C. 205.

Signed: December 19, 2000.
Bradley A. Buckles,
Director.

[FR Doc. 00-32821 Filed 12-22-00; 8:45 am]

BILLING CODE 4810-31-P